DEPARTMENT OF HEALTH AND HUMAN SERVICES

Office of the Secretary

Office of the Assistant Secretary for Administration and Management, Program Support Center; Statement of Organization, Functions, and Delegations of Authority

Part A, Office of the Secretary (OS) of the Statement of Organization, Functions, and Delegations of Authority, Chapter (A), Office of the Assistant Secretary for Administration Management, for the Department of Health and Human Services, at Part P, Program Support Center, as last amended at 68 FR 8040, dated February 19, 2003, is being amended to reflect a realignment of its functions. The changes are as follows:

I. Under chapter PA, Office of the Deputy Assistant Secretary for Program Support, make the following changes:

A. Delete the “Office of Budget and Management (PAB),” in its entirety.

B. Delete the “Office of Information Technology (PAE),” in its entirety.

II. Under Chapter PE, Administrative Operations Service, make the following changes:

A. Delete the “Division of Acquisitions Management (PEB),” and the “Division of Supply Management (PEG) in their entirety.

B. Add the following components:

1. Division of PSC Business Operations (PEH)—The Division of PSC Business Operations (DPBO) performs overall business and financial management activities for the PSC. DPBO (1) provides strategic and business planning; (2) conducts business process engineering; (3) manages costs and price reviews to keep PSC services competitive; (4) provides customer relations services; (5) prepares the PSC budget for presentation to and approval by the Board of Directors to the HHS Service and Supply fund; (6) executes approved PSC budgets, issuing allowances as approved by the Director, PSC, and consistent with funding levels approved by the Board; (7) coordinates arrangements of inter- and intra-agency funding for projects and functions; (8) develops, coordinates, and implements policies, standards, and procedures governing the establishment and maintenance of effective organizational structures and functional alignments within the PSC; and (9) coordinates the implementation of the Government Performance and Results Act within the PSC.

2. Division of Freedom of Information Act Operations (PEJ)—This Division responds to all Freedom of Information Act (FOIA) requests for records generated by, and in the custody and control of, all components of the Office of Public Health and Science (OPHS), and the Program Support Center (PSC): (1) Responds to all requests for records that involve more than one of the PHS components and the PSC; (2) responds to all administrative appeals; (3) coordinates with the Office of the General Counsel (OGC) and the assigned AUSA to resolve the administrative appeals which result in litigation; and (4) provides FOIA training and consultation.

III. Establish a new Chapter PF, titled “Strategic Acquisitions Service,” as follows:

A. Strategic Acquisitions Service (PF)—This service is responsible for providing leadership, policy, guidance and supervision to the procurement operations of the Program Support Center. The service provides to HHS components and other Departments nationwide administrative and technical services which include: acquisition services; claims services for PHS components nationwide under specific statutory authorities; and pharmaceutical, medical, and dental supplies to Federal agencies and other related non-Federal customers.

B. Division of Strategic Sourcing (PFA)—The Division of strategic Sourcing is responsible for the department-wide initiatives to: (1) Consolidate purchases of expendable commodities within one contract office, i.e., Center of Procurement Excellence; (2) decrease duplicative contract offices within the Department and move common work into the Center of Procurement Excellence; and (3) investigates innovative government and industry procurement practices and brings these innovations into strategic planning, design and implementation phases as part of business delivery.

C. Acquisitions Management Division (PFB)—The Acquisitions Management Division (AMD) provides acquisition services to HHS and other customers, and also (1) provides contracting services for ADP, program, and administrative requirements including information processing and telecommunications resources; (2) purchases supplies, equipment, and services from mandatory sources (Federal Supply Schedules and other Government agencies), open market, or by contract; (3) provides contract audit and financial review services; (4) provides acquisition policy development, oversight, procurement performance measurement and is responsible for the Department's Acquisition Supplement to the Federal Acquisition Regulation; (5) makes studies of procurement problems requiring creation of new policies or revision of existing policies; (6) provides analysis and evaluation services, develops procedures and recommends policy for administration of the acquisition program and works with the many Federal organizations to insure all laws and regulations are properly interpreted and implemented; and (7) carries out the authorities of the DHHS Claims Officer under the Federal Claims Collection Act, the Federal Tort Claims Act, and the Military Personnel and Civilian Employees' Claims Act.

D. Division of Supply Service Center (PFC)—This Division operates the Supply Service Center at Perry Point, Maryland to support HHS health facilities and other organizations world-wide by providing pharmaceutical, medical, and dental supplies to Federal Agencies and other related customers: (1) Manages financial responsibilities associated with operating a large medical warehouse as authorized by the Federal Securities Appropriations Act of 1945 (Pub. L. 790-124); (2) oversees the Center's stock and the quality control of the manufacturing and repacking of pharmaceuticals under a license agreement with the Food and Drug Administration; and (3) ensures that all internal controls are in place and oversees the security of all controlled substances under a license from the Drug Enforcement Administration.

IV. Under Chapter PG, Federal Occupational Health Service (FOHS), add the following new component:

Business Technology Support Division (PGF)—The Business Technology Support Division (BTSD): (1) develops, tests, installs, and operates business applications and related applications needed to support the provision of FOHS services under agreements with its customer federal agencies; and (2) develops content and updates the FOHS.

V. Delegation of Authority: All delegations and redelegations of authority made by officials and employees of affected organizational components will continue in them or their successors pending further redelegation, provided they are consistent with this reorganization.

Dated: December 4, 2003.
Ed Sontag,
Assistant Secretary for Administration and Management.

[FR Doc. 03-30747 Filed 12-11-03; 8:45 am]

BILLING CODE 4168-17-M